FEDERAL COMMUNICATIONS COMMISSION

[CG Docket No. 03-123; DA 17-1214]

Pleading Cycle Extended for Comment on Applications for State Certification for the Provision of Telecommunications Relay Service

AGENCY: Federal Communications Commission.

ACTION: Notice.

SUMMARY: In this document, the Commission extends the deadlines for comment on applications for state certification for the provision of state telecommunications relay service (TRS) that were included in a Public Notice DA 17-1074.

DATES: Interested parties may file comments no later than February 23, 2018. Reply comments may be filed no later than March 12, 2018.

ADDRESSES: Comments may be filed using the Commission's Electronic Comment Filing System (ECFS). See Electronic Filing of Documents in Rulemaking Proceedings, 63 FR 24121 (1998).

• Electronic Filers: Documents may be filed electronically using the internet by accessing ECFS: https://www.fcc.gov/ecfs/.

• Paper Filers: Parties who choose to file by paper must file an original and one copy of each filing.

• Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street SW, Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9050 Junction Drive, Annapolis Junction, MD 20701.

• U.S. Postal Service first-class, Express, and Priority mail must be addressed to 445 12th Street SW, Washington, DC 20554.

FOR FURTHER INFORMATION CONTACT: Dana Wilson, Consumer and Governmental Affairs Bureau at: (202) 418-2247; email: Dana.Wilson@fcc.gov.

SUPPLEMENTARY INFORMATION: Interested parties may file comments on or before the dates indicated above in the Dates portion of this notice. All filings must reference CG Docket No. 03-123 and the relevant state identification number of the state application for which comments are being submitted.

To request materials in accessible formats for people with disabilities (Braille, large print, electronic files, audio format), send an email to fcc504@fcc.gov or call the Consumer and Governmental Affairs Bureau at (202) 418-0530 (voice), (844) 432-2275 (videophone), or (202) 418-0432 (TTY). Documents DA 17-1074 and DA 17-1214 can also be downloaded in Word or Portable Document Format (PDF) at: https://www.fcc.gov/general/telecommunications-relay-services-trs.

Synopsis

Section 64.606(a)(1) of the Commission's rules requires that public notice of states filing for certification includes notification in the Federal Register. The original deadlines of December 1, 2017, for comments and December 18, 2017, for reply comments are therefore extended to February 23, 2018 for comments and March 12, 2018 for reply comments.

Public Notice DA 17-1074 listed the states noted below as having submitted applications to the Commission for renewal of certification of their state TRS programs, for the five-year period from July 26, 2018 through July 25, 2023. These applications can be found on the Commission's website at: https://www.fcc.gov/general/trs-state-and-territories.

File No: TRS-19-17

Regulatory Commission of Alaska, State of Alaska

File No: TRS-32-17

California Public Utilities Commission, State of California

File No: TRS-23-17

Colorado Public Utilities Commission, State of Colorado

File No: TRS-48-17

Public Utilities Regulatory Authority, State of Connecticut

File No: TRS-50-17

Florida Public Service Commission, State of Florida

File No: TRS-22-17

Hawaii Public Utilities Commission, State of Hawaii

File No: TRS-08-17

Telephone Relay Access Corporation, State of Indiana

File No: TRS-13-17

Louisiana Relay Administration Board, State of Louisiana

File No: TRS-55-17

Mississippi Public Service Commission, State of Mississippi

File No: TRS-40-17

Nebraska Public Service Commission, State of Nebraska

File No: TRS-42-17

New Hampshire Public Utilities, State of New Hampshire

File No: TRS-30-17

North Carolina Utilities Commission, State of North Carolina

File No: TRS-59-17

Rhode Island Public Utilities Commission, State of Rhode Island

File No: TRS-11-17

South Carolina Public Service Commission, State of South Carolina

File No: TRS-20-17

Tennessee Public Utility Commission, State of Tennessee

File No: TRS-17-17

Public Utility Commission of Texas, State of Texas

File No: TRS-04-17

Dept. for the Deaf and Hard of Hearing, Commonwealth of Virginia

File No: TRS-27-17

Office of the Deaf and Hard of Hearing, State of Washington

File No: TRS-06-17

Public Service Commission of West Virginia, State of West Virginia

File No: TRS-01-17

Wisconsin Dept. of Administration, State of Wisconsin

Federal Communications Commission.
Eliot Greenwald,
Deputy Chief, Disability Rights Office, Consumer and Governmental Affairs Bureau.

[FR Doc. 2018-01224 Filed 1-23-18; 8:45 am]

BILLING CODE 6712-01-P